ENVIRONMENTAL PROTECTION AGENCY

[FRL-7941-3]

Gulf of Mexico Program Joint Policy Review Board and Management Committee Meeting

AGENCY: Environmental Protection Agency ( EPA).

ACTION: Notice of meeting.

SUMMARY: Under the Federal Advisory Committee Act (Pub. L. 92-463), EPA gives notice of a meeting of the joint Gulf of Mexico Program (GMP) Policy Review Board (PRB) and Management Committee (MC).

DATES: The meeting will be held on Tuesday, August 9, 2005, from 1 p.m. to 5 p.m. and Wednesday, August 10, 2005, from 8:30 a.m. to 12 noon.

ADDRESSES: The meeting will be held at the Embassy Suites Hotel, 315 Julia Street, New Orleans, LA 70130 (504) 525-1993.

FOR FURTHER INFORMATION CONTACT: Gloria D. Car, Designated Federal Officer, Gulf of Mexico Program Office, Mail Code EPA/GMPO, Stennis Space Center, MS 39529-6000 at (228) 688-2421.

SUPPLEMENTARY INFORMATION: Proposed agenda topics include: Gulf of Mexico Alliance: Background and Status; Harte Research Institute Gulf of Mexico Summit; Binational Initiatives; Regional Associations—IOOS; Hypoxia Task Force—Overview of Assessment and Regional Science Symposia; Business and Industry Initiatives; Gulf Coast Marine Fisheries Association—Consistent Mercury Advisories; Status of Regional Indicators Development; Coastal America Regional Meetings.

The meeting is open to the public.

Dated: July 14, 2005.
Gloria D. Car,
Designated Federal Officer.

[FR Doc. 05-14277 Filed 7-19-05; 8:45 am]

BILLING CODE 6560-50-P